DEPARTMENT OF DEFENSE

Department of the Army; Corps of Engineers

Notice of Intent To Prepare a Supplemental Environmental Impact Statement on Rock Mining in Wetlands in the Lake Belt Region of Miami-Dade County, FL

AGENCY: Department of the Army, U.S. Army Corps of Engineers, DoD.

ACTION: Notice of intent.

SUMMARY: The U.S. Army corps of Engineers (Corps) Jacksonville District intends to prepare a Supplemental Environmental Impact Statement (SEIS) to evaluate potential impacts of further rock mining within wetlands in western Miami-date county, FL. The original EIS, The Rock Mining-Freshwater Lakebelt Plan Programmatic Environmental Impact Statement, issued in May 2000 focused on the potential impacts of a 50-year mining plan within the Lake Belt area. After evaluating the EIS, the Corps issued a Record of Decision and permits that allowed mining within a smaller, 10-year plan in April 2002. The Corps decision was challenged in United States District Court and the Court's Order on Motions for Summary Judgement was issued on March 22, 2006 as part of Case No. 03-23427-CIV-HOEVELER, United States District Court Southern District of Florida. The decision instructed the Corps to engage in additional analyses of rock mining in the Lake Belt region. Accordingly, the Corps is preparing this SEIS.

DATES: The Corps plans to hold a public scoping meeting on October 19, 2006 at 7 p.m. EST.

ADDRESSES: The meeting will be held at the Miami Dade Fire Rescue Headquarters, 9300 NW 41st Street, Doral, FL 33178. (786) 331-5000.

FOR FURTHER INFORMATION CONTACT: Ms. Leah Oberlin, (561) 472-3506.

SUPPLEMENTARY INFORMATION: a. Project background and Authorization. The Corps examined the potential impacts of rock mining activities with a 50-year life under the Miami-Dade County Lakebelt Plan (Lakebelt Plan), as accepted by the Florida Legislature in Section 373.4149, Florida Statutes (F.S.). The Corps participated in the committee of agency and industry representatives created in 1992 by the Florida Legislature, prepared an EIS, and participated in a technical review and advisory group formed by the Working Group for the Restoration of the South Florida Ecosystem. While the original EIS reviewed a 50-year plan for rock mining, the Corps issued Department of the Army (DA) authorization to ten rock mining companies on April 11, 2002 authorizing 10 year of mining activities over a 5,712 acre area. Mining under the 10-year permits has been underway for four years.

b. Need or Purpose. The purpose of the proposed action is to continue to provide high-quality construction grade limestone to the construction industry in Florida. The Corps recognizes that there is a public and private need for this product. The purpose of the proposed SEIS is to evaluate the environmental effects of alternatives to meet these requirements while protecting the aquatic environment.

c. Prior EAs, EISs. In May 2000, the Corps produced a Final Programmatic EIS for rock mining in the Lake Belt Region considering a 50-year mining plan. This SEIS will update and supplement that EIS and will also evaluate alternatives for present and possible future mining operations.

d. Alternatives. An evaluation of alternatives, including a “No Action” alternative and rock mining in other areas both inside and outside of Miami-Dade County and/or Florida will be done. The SEIS will analyze reasonable alternatives to obtaining construction grade limestone and other limestone products to meet the identified purpose and need. Alternatives will be determined through scoping, but are expected to vary according to location, timing, and breadth of mining, in addition to a “no action” alternative.

e. Issues. In addition to updating and supplementing the information from the 2000 EIS, the following issues have been identified for analysis in the SEIS. This list is preliminary and is intended to facilitate public comment on the scope of the SEIS. The SEIS will consider the effects on Federally listed threatened and endangered species, essential fish habitats, health and safety, conservation, economics, aesthetics, general environmental concerns, wetlands (and other aquatic resources), historic properties, fish and wildlife values, flood hazards, floodplain values, land use, navigation, shoreline erosion and accretion, recreation, water supply and conservation, water quality, energy needs, safety, food and fiber production, mineral needs, considerations and property ownership, and, in general, the needs and welfare of the people, and other issues identified through scoping, public involvement, and interagency coordination. At the present time, our primary environmental focus will be on endangered species (including but not limited to possible effects on the wood stock and the Eastern indigo snake), the loss of wetland functions and value, mitigation (including but not limited to the available of land for acquisition in Pennsucco and other mitigation options), drinking water well field protection (including but not limited to possible contaminants including benzene, cryptosporidum, and giardia), groundwater seepage to the east (including but not limited to possible impacts to resources of Everglades National Park), and surface water quality.

We expect to better define the issues of concern and define the methods that will be used to evaluate those issues through the scoping process.

f. Scoping Process. CEQ regulations (40 CFR 1501.7) require an early and open process for determining the scope of an EIS and for identifying significant issues related to the proposed action. The public will be involved in the scoping and evaluation process through advertisements, notices, and other means. At a minimum, all parties who have expressed interest in the Lake Belt Rock Mining Permits will be given the opportunity to participate in this process. Federal, state and local agencies, and other interested groups will also be involved. Meetings to address discrete issues or parts or functions of the study area may be called. All parties are invited to participate in the scoping process by identifying any additional concerns on issues, studies needed, alternatives, procedures, and other matters related to the scope of the SEIS.

A public scoping meeting is scheduled for (see DATES and ADDRESSES). The Corps will provide additional notification of the meeting time and location through newspaper advertisements and other means. Following a short presentation on the planned SEIS, verbal and written comments on the scope of the SEIS will be accepted. A transcript of verbal comments will be generated to ensure accuracy. A Spanish language translator will be available. To submit comments on the scope of the Lake Belt SEIS or to request copies of materials related to this effort as they become available to the public, contact: Ms. Leah Oberlin, U.S. Army Corps of Engineers, Regulatory Division, Palm Beach Gardens Regulatory Office, 4400 PGA Boulevard, Suite 500, Palm Beach Gardens, FL, 33410, by e-mail at Leah.A.Oberlin@saj02.usace.army.mil, or by telephone at (561) 472-3506. Comments or requests for information can also be submitted on the Lake Belt SEIS Web site at http://www.lakebeltseis.com. The Corps will consider all comments for the scope of the SEIS received by November 17, 2006.

g. Public Involvement. The Corps invites Federal agencies, American Indian Tribal Nations, state and local governments, and other interested private organizations and parties to attend the public scooping meeting and to comment on the scope of the planned Lake Belt SEIS.

h. Coordination. The proposed action is being coordinated with a number of Federal, state, regional, and local agencies including but not limited to the following: U.S. Fish and Wildlife Service, National Marine Fisheries Service, U.S. Enviormental Protection Agncy, Florida Department of Environmental Protection, State Historic Preservation Officer, South Florida Water Management District, Miami-Dade County, and Everglades National Park, and other agencies as identified in scoping, public involvement, and agency coordination.

i. Other Environmental Review and Consultation. The proposed action will involve an evaluation for compliance with all applicable guidelines pursuant to section 404(b) of the Clean Water Act. This review will involve a detailed evaluation of alternatives to the ongoing rock mining in the Lake Belt area, which is not a water dependent activity.

j. Agency Role. The Corps will provide extensive information and assistance on the resources to be impacted, mitigation measures, and alternatives. Although the Corps does not plan to invite any Federal agencies to be cooperating agencies, we expect to receive input and critical information from the U.S. Enviromental Protection Agency, the U.S. Fish and Wildlife Service and other federal, state, and local agencies.

k. Draft Lake Belt SEIS Preparation. It is estimated that the SEIS will be available to the public on or about May 2007. At least one additional public meeting will be held at that time, during which the public will be provided the opportunity to comment on the Draft SEIS before its becomes final.

Brenda S. Bowen,
Army Federal Register Liaison Officer.

[FR Doc. 06-8476 Filed 10-3-06; 8:45 am]

BILLING CODE 3710-AJ-M